DEPARTMENT OF COMMERCE

Minority Business Development Agency

[Docket No.: 100914450-0452-02]

Solicitation of Applications for the MBDA Business Center (MBC) Program

AGENCY: Minority Business Development Agency, Commerce.

ACTION: Notice.

SUMMARY: The Minority Business Development Agency (MBDA) is soliciting competitive applications from organizations to operate a MBDA Business Center (MBC). This notice specifies the thirty (30) MBC projects and their respective locations are being individually competed. The MBC program delivers strategic business consulting services to eligible minority business enterprise (MBE) clients through the use of business consultants and the leveraging of strategic partnerships. Responsibility for ensuring that applications in response to this competitive solicitation are complete and received by MBDA on time is the sole responsibility of the applicant. Applications submitted must be for the operation of a MBC and to provide business consulting services to eligible MBEs. Applications that do not meet these requirements will be rejected. This is not a grant program to help start or to further an individual business.

A link to the full text of the Announcement of Federal Funding Opportunity (FFO) for this solicitation may be accessed at: http://www.Grants.gov, or at http://www.mbda.gov. The FFO contains a full and complete description of the application and programmatic requirements under the MBC Program. In order to receive proper consideration, applicants must comply with the requirements contained in the FFO.

DATES: The closing date for receipt of applications is November 10, 2010 at 5 p.m. Eastern Standard Time (EST). Complete applications must be submitted electronically through http://www.Grants.gov. The date that applications will be deemed to have been submitted electronically shall be the date and time received by www.Grants.gov. Applicants should save and print the proof of submission they receive from Grants.gov. Applications received after the closing date and time will not be considered. Anticipated time for processing is approximately one hundred-forty (140) days from the closing date for receipt of applications. MBDA anticipates that awards made pursuant to this notice will be made with a start date of April 1, 2011.

Pre-Application Conference: In connection with this solicitation, two pre-application conferences are scheduled for October 20 and 25, 2010. The time and location of the pre-application conference have yet to be determined. Participants must register at least 24 hours in advance of the conference and may participate in person or by telephone. Please visit the MBDA Internet Portal at http://www.mbda.gov (MBDA Portal) or contact an MBDA representative listed below for the specific time and location of the pre-application conference and for registration instructions.

ADDRESSES: Applicants are required to submit their proposal electronically through http://www.Grants.gov. MBDA will not accept hard-copy, facsimile or email transmissions of applications.

Electronic submissions should be made in accordance with the instructions available at Grants.gov (see http://www.grants.gov/applicants/resources.jsp for detailed information). Applicants should register as organizations, not as individuals. As part of the registration process the person submitting the application must be registered as an Authorized Organizational Representative (AOR) of the organization. AORs registered at http://www.Grants.gov are the only officials with the authority to submit applications at http://www.Grants.gov. If the application is submitted by anyone other than the organization's AOR it will be rejected and cannot be considered for the competition. Note that a given organization may designate multiple individuals as AORs for purposes of http://www.Grants.gov purposes. MBDA strongly recommends that applicants not wait until the application deadline date to begin the application process through Grants.gov as, in some cases, the process for completing an online application may require 3-5 working days. Before beginning to apply through http://www.Grants.gov, please review fully the application instructions posted at http://www.Grants.gov and in Section IV. of the FFO.

FOR FURTHER INFORMATION CONTACT: For further information, please visit MBDA's Minority Business Internet Portal at http://www.mbda.gov.

Agency Contacts: MBDA Office of Business Development, 1401 Constitution Avenue, NW., Room 5085, Washington, DC 20230. Contact: Ms. Rita Gonzales, Program Manager, 202-482-1940.

SUPPLEMENTARY INFORMATION:

Authority: 15 U.S.C. Section 1512 and Executive Order 11625.

Catalog of Federal Domestic Assistance (CFDA): 11.805, MBDA Business Center.

Program Description: The MBC program is a key component of MBDA's overall portfolio of minority business development services, focusing on securing large public and/or private contracts and financing transactions, stimulating job creation and facilitating entry to global markets for “eligible minority-owned businesses.” For this purpose, business concerns that are owned or controlled by the following persons or groups of persons are eligible to receive business assistance services under the MBC Program: African Americans, Hispanic Americans, Asian and Pacific Islander Americans, Native Americans (including Alaska Natives, Alaska Native Corporations and Tribal entities), Asian Indian Americans and Hasidic Jewish Americans. See 15 CFR 1400.1-.2 and Executive Order 11625.

The primary drivers of the MBDA MBC program are job creation and retention and the award of procurement/contract and financial transactions to MBEs. The MBCs provide services including, but not limited to, the development of a pool of contract and finance opportunities; direct matching of opportunities with qualified/vetted MBEs; execution of relationship management and deal sourcing initiatives (such as but not limited to industry clusters); assisting MBEs in accessing global market opportunities and financing; identification and securing of alternative sources of capital for MBEs; promotion of the advantages of achieving size and scale; educating MBEs on the benefits of strategic growth alternatives (i.e. mergers, acquisitions and/or joint ventures); and provision of service referrals to MBEs of all sizes.

Through the cooperative agreements expected to be awarded under this funding opportunity, MBDA seeks to establish a national network of public-private partnerships that will provide services aimed at increasing the probability of significant growth for minority-owned firms. MBC and MBDA staff will work collaboratively to improve access to market and financial opportunities (domestic and global), foster key industry relationships, and leverage business expertise. Operators of MBC projects will work with the Agency and its network of funded centers to support and enhance the Agency's initiatives, performance, brand, reach, customer service and establishment of strategic partners.

MBC services are targeted towards assisting MBE clients achieve higher levels of growth and competitiveness. Start-up and/or micro firms will be served by the MBC program via strategic partnership referrals or electronic service delivery mechanisms (e.g., MBDA Business Portal). While the MBC program serves all MBEs, target clients include eligible MBEs with one or both of the following characteristics: (1) Annual revenues of over $1,000,000 or (2) participant in a high-growth industry (e.g., green technology, clean energy, health care, infrastructure and broadband technology, among others). Promoting the success of MBEs is anticipated to have a significant impact on employment and the tax base in their communities.

The MBC program generally requires project staff to: (1) Directly provide high-level business development services to eligible MBEs; (2) develop and maintain a network of strategic partnerships; (3) provide collaborative consulting services with MBDA, other MBDA funded programs and strategic partners; and (4) provide referral services to clients. The MBCs will assist eligible MBEs in accessing federal and non-federal contracting and financing opportunities (domestically and globally) that result in demonstrable client outcomes and job creation/retention.

Successful applicants will possess experience in assisting minority-owned firms in obtaining large scale procurements/contracts and financing awards; accessing established supply chains; educating and assisting minority firms in joint ventures, teaming arrangements, mergers and acquisitions; and facilitating entry and large scale transactions in global markets. It is also anticipated that the mission of successful applicant organizations will align with both the mission of MBDA and the MBC program objectives.

Please refer to the FFO pertaining to this competitive solicitation for a full and complete description of the application and programmatic requirements under the MBC Program.

Funding Availability: MBDA anticipates a total of $8.7 million in FY 2011 funds will be available to fund the financial assistance awards for the MBC projects identified in this FFO. The Agency also anticipates that $8.7 million will be available in FY 2012 through FY 2015 to support continuation funding for this program. The total award period for awards made under this competitive solicitation is anticipated to be five years and all awards are expected to be made with a start date of April 1, 2011.

FY 2011 funding for this program has not yet been appropriated and the funding periods and funding amounts referenced in this solicitation are subject to the availability of funds, as well as to Department of Commerce and MBDA priorities at the time of award. In no event will the Department of Commerce or MBDA be responsible for proposal preparation costs. Publication of this notice does not obligate the Department of Commerce or MBDA to award any specific cooperative agreement or to obligate all or any part of available funds.

Pursuant to this notice, and as set forth more fully in the corresponding FFO, competitive applications for new awards are being solicited for the thirty (30) MBC projects in the respective locations identified in the below table. The anticipated amount of the financial assistance award for each MBC project is also set forth below, although actual award amounts may vary depending on the availability of funds:

MBDA National Enterprise Center (NEC or Regional Office) | MBC location (state, city) | Federal funding years 1-5
Atlanta NEC
| Alabama—Mobile | $230,000
| Florida—Orlando | 230,000
| Florida—Miami | 332,112
| Mississippi—Biloxi | 250,000
| Georgia—Atlanta | 250,000
| North Carolina—Raleigh | 250,000
| South Carolina—Columbia | 250,000
Chicago NEC
| Illinois—Chicago | 590,400
| Indiana—Indianapolis | 225,000
| Michigan—Detroit | 290,000
| Ohio—Cleveland | 225,000
| Wisconsin—Milwaukee | 225,000
Dallas NEC
| Colorado—Denver | 243,359
| New Mexico—Albuquerque | 237,957
| Texas—Dallas | 295,238
| Texas—El Paso | 228,378
| Texas—San Antonio | 242,490
New York NEC
| New York—Manhattan | 500,000
| New York—Queens | 275,000
| New York—Williamsburg | 291,000
| Pennsylvania—Philadelphia | 275,000
| Puerto Rico* | 241,000
| Maryland, Washington, DC, Virginia* | 301,000
San Francisco NEC
| Arizona* | 290,000
| California—Inland Empire | 355,000
| California—Los Angeles | 365,000
| California—Northern* | 365,000
| Hawaii* | 295,500
| Nevada* | 270,000
| Washington* | 270,000
* Applicants are required to identify the city where the MBC project would be physically located along with a justification for the proposed placement.

The award period for projects funded under the solicitation is anticipated to be five (5) years, with five consecutive annual funding periods. Applicants must submit project plans and budgets for each of the five (5) funding periods under this award (April 1, 2011-March 31, 2012, April 1, 2012-March 31, 2013, April 1, 2013-March 31, 2014, April 1, 2014-March 31, 2015 and April 1, 2015-March 31, 2016). Projects will initially be funded for the first year of the award. A project operator will not compete for funding in years two through five, as long as the center is operating at a “Commendable” or “Outstanding” performance level at the time during the current program year that MBDA determines its recommendations to the Grants Officer for continuation funding for the next program year. A project that achieves a performance rating of “Good” or lower will not qualify for automatic renewal, but rather will be eligible for negotiation of award terms and conditions for the next funding period at the discretion of MBDA, subject to the approval of the Grants Officer.

In this respect, recommendations for continuation funding are generally evaluated by MBDA based on the mid-year performance rating and/or a combination of the mid-year and cumulative third quarter performance ratings for the current program year. In making such continued funding determinations, MBDA and the Department of Commerce will consider all the facts and circumstances of each case, such as, but not limited to, market conditions, most recent performance of the project and other mitigating circumstances.

Electronic Access: Applicants will be able to access, download and submit electronic grant applications for the MBC Program through http://www.Grants.gov. MBDA strongly recommends that applicants not wait until the application deadline date to begin the application process through Grants.gov as in some cases the process for completing an online application may require additional time (e.g., 3-5 working days). The date that applications will be deemed to have been submitted electronically shall be the date and time received at Grants.gov. Applicants must save and print the proof of submission they receive from Grants.gov. Applications received after the closing date and time will not be considered.

Program Priorities: Preference may be given during the selection process to applications that effectively address one or more of the following MBDA program priorities:

(a) Applicants who demonstrate experience in assisting MBEs in obtaining large scale contracts and financing awards and accessing established supply chains;

(b) Applicants who demonstrate a record of facilitating large scale transactions for MBEs in global markets, or facilitating entry into global markets;

(c) Applicants who demonstrate a record of assisting MBEs in joint ventures, teaming arrangements, mergers and acquisitions;

(d) Applicants who demonstrate a track record of successfully partnering and collaborating with third-party entities for the benefit of MBEs;

(e) Applicants who demonstrate experience working with MBEs in high-growth industries;

(f) Applicants who demonstrate the capacity and willingness to assist MBEs in identifying and accessing federal procurement opportunities, either directly or via partnerships;

(g) Proposals that direct 80% or more of the federal funding for the project towards direct business consulting staff costs (i.e., direct consulting staff salaries and fringe benefits, travel costs and training costs); and

(h) Applicants who propose innovative additions to the MBC program that significantly enhance their opportunity to be successful (See Appendix F of the FFO for samples of possible additions that can be developed, enhanced and proposed by applicants).

Eligibility Criteria: For-profit entities (including but not limited to sole-proprietorships, partnerships, and corporations), non-profit organizations, state and local government entities, American Indian Tribes, and educational institutions are eligible to operate MBCs.

Match Requirements: There is no predefined minimum or maximum amount of required non-federal cost sharing under the MBC program. However, as discussed below, non-federal cost sharing through the generation of “program income” is mandatory. Non-federal cost share is the portion of the total project costs not borne by the Federal Government.

The MBC program is a fee-for-service program and MBC operators are required to generate “program income” through the collection of client fees, membership fees, success fees and/or other fee structures proposed by the applicant. All proposed fee structures must be acceptable to MBDA and approved by the Grants Officer. Program income generated by the MBC project must be applied directly to the award's non-federal cost share and must be used in furtherance of program objectives. See the “Program Income” discussion in Section III.B, Non-Federal Cost Share Requirement, of the FFO as well as the Proposed Budget and Narrative portion of Section IV.B. of the FFO for additional information on this requirement.

Beyond the required generation of program income, applicants may contribute additional non-federal cost share to the award by one or more of the following methods: (1) Applicant cash contributions; (2) applicant in-kind (i.e., non-cash) contributions; or, (3) third-party cash or in-kind contributions (including a state or local grant or other form of support for the project).

Evaluation Criteria: Applications will be evaluated and applicants will be selected based on the below evaluation criterion. The maximum total number of points that an applicant may receive is 110, including: (1) 90 points under the Program Narrative component; (2) 10 points under Budget and Budget narrative component; and (3) 10 bonus points under the optional Service Innovation component. The number of points assigned to each evaluation criterion will be determined on a competitive basis by the MBDA review panel based on the quality of the application with respect to each evaluation criterion.

Program Narrative:

1. Applicant Capability (30 points total).

• Organizational Background and Knowledge of Community (5 points maximum): Applicant's organizational background, emphasizing knowledge of the minority business sector and strategies for enhancing its growth and expansion. Consideration will be given as to whether the applicant has a physical presence in the applicable location and past experience providing related services.

• Mission Alignment (5 points maximum): The extent to which the mission of the applicant organization aligns with the mission of MBDA and the objectives of the MBC program.

• Access to Markets (5 points maximum): Applicant's knowledge of and experience in public and private sector contracting opportunities for MBEs, as well as demonstrated experience in assisting clients into supply chains. The applicant's professional working relationships and networks with potential sources of contracts for MBEs will also be considered. Additionally, the applicant's experience with facilitating large procurement/contract deals on behalf of MBEs, conducting business matchmaking forums, and assisting MBEs with the establishment of joint ventures and teaming arrangements will be considered.

• Access to Capital (5 points maximum): Applicant experience in successfully preparing and matching MBEs with traditional sources of capital, alternative sources of financing (i.e., equity and venture capital), loan and bonding packages, and mergers and acquisitions. The applicant's professional working relationships and networks with financial institutions (corporate, banking and investment communities) will also be considered.

• Business Consulting to Clients (5 points maximum): The applicant's experience with and strategies for enhancing minority business growth and delivery of business consulting services and related successful client outcomes.

• Key Staff (5 points maximum): Qualifications and experience of proposed key staff, including but not limited to the Project Director and business consultants. The Applicant's plan for recruiting staff will also be considered.

2. Resources (30 points total).

• Partners (10 points maximum): The applicant's plan for establishing and maintaining a network of strategic partners and the extent to which each partner will support the MBC in implementing the program and meeting program performance goals will be a consideration. Whether the partnerships will be leveraged towards assisting clients with securing contracts, securing financing, job creation, penetrating global markets, achieving size and scale, or providing referrals for services will also be considered. Additionally, how the applicant will interact and coordinate with its strategic partners towards effecting successful client outcomes will be considered.

• Resources (10 points maximum): Resources that will be used in implementing the program in each of the five program years will be considered. Resources include, but are not limited to, existing prior and/or current data lists that will serve in fostering immediate success for the MBC.

• Location/Equipment (10 points maximum): The applicant's strategic rationale for the proposed MBC office (the center location must be close to private and public sector resources and potential clients, and be professional in appearance). The applicant's plan for satisfying the MBC information technology requirements, including computer hardware, software requirements, creation and support of an MBC website and network map (see Appendix C, Information Technology and Computer Requirements, of the FFO) will also be considered.

3. Techniques and Methodologies (30 points total)

• Performance Measures (10 points maximum): For each of the five (5) funding periods, the applicant's techniques and methodology to be used in implementing the program will be considered, including the quarterly breakdown of the performance goals. Additionally, the applicant's recognition of and strategy for addressing existing market conditions in achieving its proposed performance goals will also be considered. Additionally, how the applicant proposes to establish a system that corresponds to, or may compliment, MBDA's tracking and validation of contracts and financings will be considered. (See Suggested Performance Goals for each MBC location are listed in Appendix B, Suggested Performance Goals by Center Location, of the FFO.) Please note that deviations, either above or below, from the Suggested Performance Goals require justification.

• Start-up Phase (10 points maximum): The applicant's strategic plan for commencement of the MBC operations within the initial 60-day period (the MBC shall have sixty (60) days to become fully operational after an award is made—see Section I.A.4., Operational and Performance Requirements, of the FFO) will be considered. Please note that the applicant must submit a schedule with significant implementation milestones, such as the hiring of key staff and the opening of the MBC facility.

• Work Requirements Execution Plan (10 points maximum): The applicant's description for how staff time will be used effectively and efficiently to achieve the work requirements of the overall program including the start-up phase will be considered. Please note that the applicant must include a specific five-year plan-of-action detailing how the MBC work requirements will be met for each of the five (5) funding periods. (See “Program Details and Work Requirements” in Section I.A.4 of the FFO.) A staff allocation chart for each of the five (5) years must also be included as part of the work requirements execution plan.

Budget and Budget Narrative:

1. Reasonableness, Allowability and Allocability of Proposed Program Costs (5 points maximum).

All of the proposed program costs expenditures should be broken down into their individual units and discussed. The budget narrative must match the proposed line item budget. Fringe benefits and other percentage item calculations should match the proposed budget line-item and narrative. Line item amounts in the detailed budget and budget narrative must match the budget numbers reflected in Standard Form (SF) 424 (one for all five years) and 424A (one for each of the five years).

All costs included in the proposed budget must be allowable, allocable and reasonable. Each item of cost must be accompanied by a sufficiently detailed description and cost breakdown to enable reviewers to make a determination regarding its allowability, allocability and reasonableness. One word descriptions and lump sum amounts are not adequate for justifying costs. Each budget item should be broken out and described fully so that there is no ambiguity as to its relevance to MBC program objectives and its reasonableness. The following Office of Management and Budget (OMB) Circulars and Federal Acquisition Regulations (depending on the type of recipient) will be used to determine allowable costs, and will apply to the entire amount of the MBC award, including both the federal and non-federal program costs:

• 2 CFR part 220 (OMB Circular A-21, “Cost Principles for Educational Organizations”);

• 2 CFR part 225 (OMB Circular A-87, “Cost Principles for State, Local and Indian Tribal Governments”);

• 2 CFR part 230 (OMB Circular A-122, “Cost Principles for Nonprofit Organizations”); and

• 48 CFR part 31 for commercial organizations and for those organizations listed in Appendix C to 2 CFR part 230.

2. Performance-Based Budgeting (5 points maximum).

The extent to which the line-item budget and budget narrative relate to the accomplishment of the MBC work requirements and performance measures (i.e., performance-based budgeting) will be considered. The budget will be compared to the program narrative to determine whether the budget is realistic from a programmatic perspective and whether costs are necessary to complete the work requirements. Costs included in the budget that are determined to be unrealistic will be considered as an indication of an applicant's lack of understanding of the requirements of the MBC program and/or the methods that must be utilized to deliver services. Program Income (i.e., client fees, membership fees, success fees, and/or other acceptable fee structures proposed) must be adequately addressed and properly documented, including but not limited to how the proceeds will be billed, collected, waived and used by the applicant in furthering the program objectives.

Service Innovation (Optional)—Bonus Points (10 points maximum):

Bonus points may be awarded to an applicant proposing innovative MBE services that enhance the required MBC program scope. This component is optional and any service(s) proposed under the “Service Innovation” is in addition to the core MBC services (see “Program Details and Work Requirements” in Section I.A.4, of the FFO). Proposed innovations cannot be used as a substitute or otherwise in lieu of the defined MBC program and service requirements.

An applicant proposing a “Service Innovation” must fully describe the aspects of any innovative addition(s) to the work requirements that the applicant will implement. Some examples have been provided in Appendix F—Sample Innovation Concepts, of the FFO. Applicants are not required to utilize these examples. MBDA encourages any innovative solutions; however, proposed ideas (including the stated examples) must be fully developed and articulated, including their processes and anticipated results.

Review and Selection Process

1. Initial Screening

Prior to the formal paneling process, each application will receive an initial screening to ensure that all required forms, signatures and documentation are present. An application will be considered non-responsive and will not be evaluated by the review panel if it is received after the closing date for receipt of applications, the applicant authorized organizational representative (AOR) fails to submit Standard Form 424 by the application closing date, or the application does not provide for the operation of a MBC. Note, AOR substitutions require approximately ten (10) working days to be processed by www.Grants.gov. Other application deficiencies will be accounted for during panel review and may result in point deductions.

2. MBDA Merit Review Panel

Each responsive application will receive an independent, merit review by a panel qualified to evaluate the applications submitted. The review panel will consist of at least three (3) individuals, all of whom are full-time federal employees and at least one of whom will be an MBDA employee, who will review the applications for a specified project based on the published evaluation criterion. Each reviewer shall evaluate and provide a score for each proposal. Each project review panel (through the panel Chairperson) shall provide the MBDA Selecting Official with a ranking of the applications based on the average of the reviewers' scores.

3. MBDA Regional Director Review

The MBDA Regional Director will review panel recommendations and submitted applications for MBC projects located within the geographical area served by his/her National Enterprise Center (NEC) (sometimes referred to as an MBDA Regional Office). Responsibility for the NEC review will reside with the Regional Director.

The applicable MBDA Regional Director will review the panel recommendation and submitted applications and provide a written memorandum to the MBDA Selecting Official either indicating his/her concurrence with the recommendation of the panel or making an alternate recommendation for selection out of rank order. Any recommendation by the Regional Director for selection out of rank order must be justified based on one or more of the MBDA Program Priorities outlined in the FFO.

The panel recommendation, together with Regional Director's recommendation, will be provided to the MBDA Selecting Official for consideration in making the final award recommendation to the Grants Officer.

4. Final Selection and Recommendation for Funding

The MBDA National Director is the Selecting Official and makes the final recommendation to the Grants Officer regarding the funding of applications under this competitive solicitation. MBDA expects to recommend funding of the highest ranked applicant for each of the MBC projects being competed (only one award will be made for each project), as evaluated and recommended by the review panel and taking into account results of the respective MBDA Regional Director's review. However, the MBDA National Director may decide not to select any of the recommended applications, or may select an applicant out of rank order, for either of the following reasons:

(a) A determination that a lower ranked applicant better addresses one or more of the program priorities set forth in the FFO. The National Director (or his/her designee) reserves the right to conduct one or more site visits, in order to make a better assessment of an applicant's capability to achieve the program priorities; or

(b) The availability of MBDA funding. Prior to making a final recommendation for funding to the Grants Officer, MBDA may conduct negotiations with an applicant that Selecting Official anticipates recommending and/or request that the applicant provide written clarifications regarding its application.

Intergovernmental Review: Applications under this program are not subject to Executive Order 12372, “Intergovernmental Review of Federal Programs.”

Limitation of Liability: In no event will MBDA or the Department of Commerce be responsible for proposal preparation. All funding periods under the award are subject to the availability of funds to support the continuation of the project. Publication of this notice does not obligate MBDA or the Department of Commerce to award any specific project or to obligate any available funds. FY 2011 funds have not yet been appropriated for the MBC program.

Universal Identifier: All applicants will be required to provide a Dun and Bradstreet Data Universal Numbering system (DUNS) number during the application process. See the June 27, 2003 Federal Register notice (68 FR 38402) for additional information. Organizations can receive a DUNS number at no cost by calling the dedicated toll-free DUNS Number request line at 1-866-705-5711 or by accessing the Grants.gov Web site at http://www.Grants.gov.

Department of Commerce Pre-Award Notification Requirements for Grants and Cooperative Agreements: The Department of Commerce Pre-Award Notification Requirements for Grants and Cooperative Agreements contained in the Federal Register notice of February 11, 2008 (73 FR 7696) are applicable to this solicitation.

Paperwork Reduction Act: This document contains collection-of-information requirements subject to the Paperwork Reduction Act (PRA). The use of the MBDA Performance Online Database and of Standard Forms 424, 424A, 424B, SF-LLL, and CD-346 have been approved by the Office of Management and Budget (OMB) under the respective control numbers 0640-0002, 4040-0004, 4040-0006, 4040-0007, 0348-0046 and 0605-0001. Notwithstanding any other provisions of the law, no person is required to respond to, nor shall any person be subject to penalty for failure to comply with, a collection of information subject to the requirements of the PRA, unless that collection of information displays a currently valid OMB control number.

Executive Order 12866: This notice has been determined to be not significant for purposes of E.O. 12866.

Administrative Procedure Act/Regulatory Flexibility Act: Prior notice and an opportunity for public comment are not required by the Administrative Procedure Act for rules concerning public property, loans, grants, benefits, or contracts (5 U.S.C. 533(a)(2)). Because notice and opportunity for comment are not required pursuant to 5 U.S.C. 533 or any other law, the analytical requirements of the Regulatory Flexibility Act (5 U.S.C 601 et seq.) are inapplicable. Therefore, a regulatory flexibility analysis is not required and has not been prepared.

Dated: September 22, 2010.
Alejandra Y. Castillo,
Deputy National Director, Minority Business Development Agency.

[FR Doc. 2010-24164 Filed 9-24-10; 8:45 am]

BILLING CODE 3510-21-P